DEPARTMENT OF ENERGY

Federal Energy Regulatory Commission

[Docket Nos. CP02-396-000 and PF01-1-000]

Greenbrier Pipeline Company, LLC; Notice of Meetings for the Greenbrier Pipeline Project Draft Environmental Impact Statement

November 1, 2002.

The Federal Energy Regulatory Commission (FERC) will conduct comment meetings on environmental issues for the proposed Greenbrier Pipeline Project filed in the above-referenced dockets.

The meetings will start at 6:30 p.m. and end at 10 p.m. at the locations listed below:

Monday, November 18, 2002 Person County Office Building, Roxboro, North Carolina304 South Morgan Street, Roxboro, North Carolina 27573, (336) 597-1720.

Monday, November 18, 2002 Floyd County High School, Floyd, Virginia, 721 Baker Street, Floyd, Virginia 24091, (540) 745-9450.

Tuesday, November 19, 2002 Laurel Park High School, Martinsville, Virginia, 280 Laurel Park Avenue, Martinsville, Virginia 24112, (276) 632-7216.

Tuesday, November 19, 2002 Fayetteville High School, Fayetteville, West Virginia 515 W. Maple Avenue, Fayetteville, West Virginia 25840 (304) 574-0560.

Additional information may be obtained from the Commission's Office of External Affairs at 1 866 208-FERC (3372).

Linwood A. Watson, Jr.,
Deputy Secretary.

[FR Doc. 02-28437 Filed 11-7-02; 8:45 am]

BILLING CODE 6717-01-P